DEPARTMENT OF COMMERCE

National Oceanic and Atmospheric Administration

[I.D. 020807E]

North Pacific Fishery Management Council; Notice of Committee Meeting

AGENCY: National Marine Fisheries Service (NMFS), National Oceanic and Atmospheric Administration (NOAA), Commerce.

ACTION: Committee meeting.

SUMMARY: The North Pacific Fishery Management Council's (Council) Charter Halibut Management Stakeholder Committee will meet in Anchorage Alaska.

DATES: The Charter Halibut Stakeholders Committee will convene on February 27-28, 2007, 8:30 a.m.-4:30 p.m. in Anchorage at the North Pacific Research Board.

ADDRESSES: North Pacific Research Board, 1007 W. 3rd Avenue, #100, Anchorage, Alaska, 99501.

Council address: North Pacific Fishery Management Council, 605 W. 4th Ave., Suite 306, Anchorage, AK 99501-2252.

FOR FURTHER INFORMATION CONTACT: Jane DiCosimo, NPFMC at 907-271-2809.

SUPPLEMENTARY INFORMATION: The committee agenda will include the following: (1) Review and provide recommendations on a limited entry (moratorium) program for the charter sector in Areas 2C and 3A; (2) a discussion paper on an allocation to the charter sector relative to the long term solution; (3) a State of Alaska proposal to manage the charter halibut fisheries under delegation of limited authority; (4) State of Alaska estimates of byctach mortality of sport-caught halibut; (5) permanent solution alternatives and options.

These meetings are physically accessible to people with disabilities. Requests for sign language interpretation or other auxiliary aids should be directed to Gail Bendixen, 907-271-2809, at least 5 working days prior to the meeting date.

Dated: February 8, 2007.
Tracey L. Thompson,
Acting Director, Office of Sustainable Fisheries, National Marine Fisheries Service.

[FR Doc. E7-2428 Filed 2-12-07; 8:45 am]

BILLING CODE 3510-22-S